DEPARTMENT OF AGRICULTURE

Agricultural Marketing Service

7 CFR Part 205

[Docket Number: TM-00-03]

National Organic Programs; Organic Production and Handling of Aquatic Animals To Be Labeled as Organic

AGENCY: Agricultural Marketing Service, USDA.

ACTION: Notice of public meeting and request for comments.

SUMMARY: The USDA Agricultural Marketing Service (AMS) plans to hold three public meetings to discuss issues related to the organic production and handling of aquatic animals to be labeled as organic.

DATES: The meetings are scheduled as follows:

1. April 10, 2000, from 6 p.m. to 9 p.m., Mobile, Alabama.

2. April 12, 2000, from 9 a.m. to 1 p.m., Anchorage, Alaska.

3. May 3, 2000, from 6 p.m. to 9 p.m., Providence, Rhode Island.

Comment Date: Written and electronic comments must be submitted on or before May 17, 2000.

ADDRESSES: The meetings will be held at the following locations:

1. Alabama—Mobile Convention Center, 1 South Water Street, Room 201, Mobile, AL.

2. Alaska—Anchorage Hilton, 500 West Third Avenue, Anchorage, AK.

3. Rhode Island—Providence Biltmore, 11 Dorrance Street, Providence, RI.

Comment Address: Send written and electronic comments to: Mark Keating, National Organic Program, USDA-AMS-TMP-NOP, Room 2510-South, Washington, DC 20090-6456.

FOR FURTHER INFORMATION CONTACT: Mark Keating: Telephone: (202) 720-7804; Fax: (202) 205-7808.

SUPPLEMENTARY INFORMATION: Section 2119 (7 U.S.C. 6518) of the Organic Foods Production Act (OFPA) as amended (7 U.S.C. 6501 et seq.) requires that livestock that is to be slaughtered and sold or labeled as organically produced shall be raised in accordance with the OFPA. Section 2103 (7 U.S.C. 6502) of the OFPA defines livestock as any cattle, sheep, goats, swine, poultry, equine animals used for food or in the production of food, fish used for food, wild or domesticated game, or other nonplant life. Therefore, any fish used for food that is to be sold or labeled as organic must be raised in accordance with the requirements of the OFPA. The term “fish” encompasses all aquatic animals used for food including shell fish and fin fish. AMS believes that the term “fish” may be interpreted not only to encompass aquatic animals propagated and raised in a controlled or selected environment (“aquaculture”), but also fish harvested from Federally regulated but free roaming marine and fresh water populations (“wild harvest”). AMS is conducting three public meetings to solicit information regarding organic production and handling standards for operations producing aquatic animals.

What Is the Purpose of the National Organic Program?

As set forth in Section 2102 (7 U.S.C. 6501), the OFPA is intended to: (1) Establish national standards governing the marketing of certain agricultural products as organically produced products; (2) assure consumers that organically produced products meet a consistent standard; and (3) facilitate commerce in fresh and processed food that is organically produced. The National Organic Program (NOP) is the entity within AMS responsible for implementing the OFPA. Pursuant to section 2119 of the OFPA (7 U.S.C. 6518), the Secretary has established the National Organic Standards Board (NOSB) to provide assistance in the development of organic standards. The members of the NOSB represent distinct disciplines from within the organic community and are authorized to propose recommendations to the Secretary on the creation and revision of production and handling standards for organically managed operations.

The NOSB received public testimony and engaged in discussion of certification standards for aquaculture and wild-harvest aquatic animal operations at meetings in July 1998, October 1998, February 1999, July 1999 and October 1999. The NOP staff will evaluate the testimony and discussion from those meetings, consider any subsequent recommendations proposed by the NOSB, evaluate any information developed at the public national meetings announced in this document, and publish for comment in the Federal Register proposed organic standards for operations that produce aquatic animals.

What Are the Current Regulations for the Production and Harvesting of Aquatic Animals?

Multiple Federal entities share regulatory authority for the production and marketing of aquatic animals. The National Marine Fisheries Service (NMFS) within the National Oceanic and Atmospheric Administration (NOAA) of the U.S. Department of Commerce provides services and products to support domestic and international fisheries management operations, fisheries development, trade and industry assistance activities, enforcement, protected species and habitat conservation operations, and the scientific and technical aspects of NOAA's marine fisheries program. The Fish and Wildlife Service of the U.S. Department of the Interior fulfills multiple functions including managing interjurisdictional fisheries, restoration of aquatic ecosystems, and recovery of listed and candidate aquatic species. The Animal and Plant Health Inspection Service (APHIS) of USDA has a role in both plant and animal aquaculture, especially involving disease and pest prevention and wildlife damage management. The Food and Drug Administration of the U.S. Department of Health and Human Services operates an oversight compliance program for the safety, wholesomeness, identity, and economic integrity of marketed seafood products. In considering the development of organic production and handling standards for operations producing aquatic animals, AMS will consult with all Federal entities that share regulatory responsibility for such operations.

How Will the Meetings Be Conducted?

A representative of AMS will preside at each of the three public meetings. Any interested person may appear and be heard in person or through a representative. All public comment will be recorded and will be made part of the meeting record. We request that anyone who makes an oral comment also submit a written statement to the AMS representative at the meeting.

How Can Interested Persons Participate?

1. In person. Anyone may attend and comment at a meeting. If you wish to make a comment, you should register with AMS as soon as possible but prior to the meeting date. You may register by calling the NOP at (202) 720-3252, at which time you will be requested to submit your name, the topic of the comment, and the meeting location where you will make the comment. Registration will help ensure that you will be able to present your comment during the meeting. You also may register to make a comment by sending an e-mail message to NOP.Register@usda.gov. If you are unable to register prior to the meetings, you will be able to sign up at each location on the day of the meeting. Late registrants may submit comments on a first-come, first-served basis following the completion of comments from pre-registered individuals. Oral comments will be limited to 5 minutes to enable the greatest number of presenters an opportunity to speak.

2. Written comments. Written comments may be mailed to Mark Keating, National Organic Program USDA-AMS-TMP-NOP, P.O. Box 96456, Room 2510—South, Washington, DC 20090-6456; Telephone: (202) 720-3252; Fax: (202) 205-7808.

3. Electronically. Comments also may be submitted electronically via the Internet through Aquatic.Comment@usda.gov.

What Topics Should Comments Address?

General

1. How would the introduction of organic production and handling standards for aquatic animal operations affect consumer perception and acceptance of the organic certification process for other types of operations?

2. How would an organic label impact the marketing of aquatic animals?

3. What types of certification programs other than organic could provide consumers with useful information on the harvesting and processing of aquatic animals?

4. How would AMS organic standards for the production and handling of aquatic animals relate to international regulation?

Aquatic Animal Operations

1. Which components of organic certification for crops and livestock are compatible with or similar to operations that produce aquatic animals?

2. How can aquatic animal operations comply with the requirements of the OFPA which include:

— an organic system plan,

— wildcrop harvesting,

— origin of slaughter stock,

— health care practices,

— living conditions,

— allowed and prohibited substances,

— feed requirements,

— post-harvest processing,

— identification and record keeping systems.

Wild Harvested Operations

1. What should be the criteria for determining the suitability of a wild harvest site for the production of organic aquatic animals? How should prevailing environmental factors such as water quality, the presence of prohibited substances, and human activity be incorporated into the site inspection and approval? How should the potential impact of the operation on the target species, non-target species, and the environment be addressed in the certification process?

2. How can the population dynamics of the targeted species, including age distribution, reproductive capacity, and sustainable catch limits, be cumulatively addressed by the organic system plans of multiple operations?

3. How can producers anticipate and certifying agents verify site conditions over time and across the production site in which wild harvest operations function?

4. How can the management practices of a fish hatchery that contributes to a wild harvest population of aquatic animals be incorporated into the organic system plan?

Aquaculture Operations

1. What should the criteria be for evaluating the suitability of a production site for an organic aquaculture operation? Specifically, how can standards be developed for the site of production to address nutrient concentration, the emergence and transfer of disease, the escape of captive species to the wild, and detrimental impacts on indigenous species?

2. What characteristics of fish meal are pertinent to the requirement in the OFPA that producers supply livestock with organically produced feed that meets the requirements of the OFPA?

3. What guidelines are needed to ensure that the predator control practices used in aquaculture operations are consistent with organic principles?

4. Should the induction of triploidy in fish species be classified as an allowed or prohibited practice?

5. How should standards address the origin of livestock requirement for aquaculture operations that obtain stock or fry from wild populations?

Dated: March 17, 2000.
Sharon Bomer Lauritsen,
Acting Deputy Administrator, Transportation and Marketing.

[FR Doc. 00-7144 Filed 3-22-00; 8:45 am]

BILLING CODE 3410-02-P